DEPARTMENT OF HEALTH AND HUMAN SERVICES

Centers for Disease Control and Prevention

[60Day-17-0822; Docket No. CDC 2017-0067]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on The National Intimate Partner and Sexual Violence Survey (NISVS) to collect information about individual's experiences of sexual violence, stalking and intimate partner violence and information about the health consequences of these forms of violence. CDC produces national and state level prevalence estimates of these types of violence.

DATES: Written comments must be received on or before November 20, 2017.

ADDRESSES: You may submit comments, identified by Docket No. CDC-2017-0067 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal Regulations.gov) or by U.S. mail to the address listed above.

FOR FURTHER INFORMATION CONTACT: To request more information on the proposed project or to obtain a copy of the information collection plan and instruments, contact Leroy Richardson, Information Collection Review Office, Centers for Disease Control and Prevention, 1600 Clifton Road NE., MS-D74, Atlanta, Georgia 30329; phone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

The National Intimate Partner and Sexual Violence Survey (NISVS) (OMB Control Number 0920-0822, Expiration 07/30/2018)—Revision—National Center for Injury Prevention and Control (NCIPC), Centers for Disease Control and Prevention (CDC).

Background and Brief Description

The National Intimate Partner and Sexual Violence Surveillance System (NISVSS) data from 2010-2012 show that approximately 44.9 million women and 35.2 million men experienced contact sexual violence, physical violence and/or stalking by an intimate partner during their lifetime. The health care costs of IPV exceed $5.8 billion each year, nearly $3.9 billion of which is for direct medical and mental health care services. In order to address this important public health problem, CDC implemented, beginning in 2010, the National Intimate Partner and Sexual Violence Surveillance System that produces national and state level estimates of Intimate Partner Violence (IPV), Sexual Violence (SV) and stalking on an annual basis.

CDC seeks OMB approval for a three-year period. In this revision, CDC is requesting the continuation of data collection among non-institutionalized adult men and women aged 18 years or older in the United States assessing lifetime experiences of intimate partner violence (IPV), sexual violence (SV) and stalking with the version of the survey approved for the 2016-2017 data collection period, revised to remove questions for the Department of Defense (DoD) regarding the experiences of IPV, SV and stalking among active duty women and men in the military and wives of active duty men. These questions will not be a part of the next wave of data collection because this subsample data collection will be completed in 2017. The survey includes enhancements, already approved, that reduced instrument complexity in order to reduce respondent burden and make the data available to the public sooner in order to take action to prevent IPV, SV, and stalking. The periodicity of the administration of the NISVS instrument remains biennial. Biennial data collection was incorporated for previously approved data collections to increase the number of interviews.

To comply with OMB's terms of clearance for 2014 and 2016, CDC continues its collaboration with Bureau of Justice Statistics (BJS) in convening a work group to obtain expert feedback and input on how to enhance the NISVS survey. Workgroup participants will provide guidance on how to improve the system's survey design (e.g., methods, sampling frame, recruitment, mode of administration, etc.) with the goals of increasing response rates, reducing non-response bias, and maximizing the opportunities across Federal surveys for covering populations of interest. Meetings with the work group, which included a representative from OMB, began in February of 2017 and are still on-going. Recommendations from the work group are in development and will be used to inform both the 2018-2019 efforts as well as the survey design and administration after 2019.

NISVS is a dual-frame (landline and cell phone) random digit dial (RDD) telephone survey. Data are be analyzed using appropriate statistical software to account for the complexity of the survey design to compute weighted counts, percentages, confidence intervals using both national and state level data. The average burden per screened respondent remains at 3 minutes, while the average burden per surveyed respondent is 25 minutes. The survey will be conducted among English or Spanish speaking male and female adults (18 years and older) living in the United States.

The estimated annual burden hours are 22,700 with a decreased of 4,316, from 27,106 hours previously approved. There are no costs to respondents other than their time.

Estimated Annualized Burden Hours
Type of respondents | Form name | Number of respondents | Number of responses per respondent | Average burden per response (in hours) | Total burden (in hours)
Non-Participating Household (Screened) | NISVS Survey Instrument. Section non-participating | 204,000 | 1 | 3/60 | 10,200
Eligible Household (Completes Survey) | NISVS Survey Instrument. Section for participating | 30,000 | 1 | 25/60 | 12,500
Total |  |  |  |  | 22,700

Leroy A. Richardson,
Chief, Information Collection Review Office, Office of Scientific Integrity, Office of the Associate Director for Science, Office of the Director, Centers for Disease Control and Prevention.

[FR Doc. 2017-19958 Filed 9-19-17; 8:45 am]

BILLING CODE 4163-18-P